DEPARTMENT OF TRANSPORTATION

Federal Aviation Administration

14 CFR Part 71

[Docket No. FAA-2025-5136; Airspace Docket No. 25-AGL-18]

RIN 2120-AA66

Establishment and Amendment of Class E Airspace; South Bend, IN

AGENCY: Federal Aviation Administration (FAA), DOT.

ACTION: Notice of proposed rulemaking (NPRM).

SUMMARY: This action proposes to establish and amend the Class E airspace at South Bend, IN. The name and geographic coordinates of the South Bend International Airport, South Bend, IN, would also be updated to coincide with the FAA's aeronautical database. The FAA is proposing this action as the result of airspace reviews conducted due to the decommissioning of the Keeler very high frequency omnidirectional range (VOR) as part of the VOR Minimum Operational Network (MON) Program. This action would bring the airspace into compliance with FAA orders and support instrument flight rule (IFR) procedures and operations.

DATES: Comments must be received on or before January 20, 2026.

ADDRESSES: Send comments identified by FAA Docket No. FAA-2025-5136 and Airspace Docket No. 25-AGL-18 using any of the following methods:

* Federal eRulemaking Portal: Go to www.regulations.gov and follow the online instruction for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to Docket Operations in Room W12-140 of the West Building Ground Floor at 1200 New Jersey Avenue SE, Washington, DC, between 9 a.m. and 5 p.m., Monday through Friday, except Federal holidays. FAA Order JO 7400.11K, Airspace Designations and Reporting Points, and subsequent amendments can be viewed online at www.faa.gov/air_traffic/publications/. You may also contact the Rules and Regulations Group, Office of Policy, Federal Aviation Administration, 600 Independence Avenue SW, Washington, DC 20597; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would establish and amend Class E airspace at the affected airports to support IFR operations.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it received on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov as described in the system of records notice (DOT/ALL-14FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received, and any final disposition in person in the Dockets Office (see the ADDRESSES section for the address, phone number, and hours of operations). An informal docket may also be examined during normal business hours at the Federal Aviation Administration, Air Traffic Organization, Central Service Center, Operations Support Group, 10101 Hillwood Parkway, Fort Worth, TX 76177.

Incorporation by Reference

Class E airspace is published in paragraphs 6002, 6003, 6004, and 6005 of FAA Order JO 7400.11, Airspace Designations and Reporting Points, which is incorporated by reference in 14 CFR 71.1 on an annual basis. This document proposes to amend the current version of that order, FAA Order JO 7400.11K, dated August 4, 2025, and effective September 15, 2025. These updates would be published subsequently in the next update to FAA Order JO 7400.11. FAA Order JO 7400.11K, which lists Class A, B, C, D, and E airspace areas, air traffic service routes, and reporting points, is publicly available as listed in the ADDRESSES section of this document.

The Proposal

The FAA is proposing an amendment to 14 CFR part 71 that would modify the Class E surface airspace; establish a Class E extension to Class C airspace; establish a Class E extension to a Class E surface area; and modify the Class E airspace extending upward from 700 ft. above the surface at South Bend, Indiana, due to airspace reviews conducted as part of the decommissioning of the Keeler VOR as part of the VOR MON Program.

For the South Bend International Airport, South Bend, IN, Class E surface area, the proposal would: (1) update the name of the airport from Michiana Regional Transportation Center Airport to South Bend International Airport and update the geographic coordinates of the airport to coincide with the FAA's aeronautical database; (2) remove the city associated with the airport from the airspace legal description header to comply with changes to FAA Order JO 7400.2R, Procedures for Handling Airspace Matters; (3) add the Chain-O-Lakes Airport to the airspace legal description header as it was previously omitted; and (4) update the outdated term “Airport/Facility Directory” to “Chart Supplement.”

The proposal would establish a Class E extension to Class C airspace at South Bend International Airport extending upward from the surface within 2 miles each side of the 179° bearing from the airport extending from the 5-mile radius of the airport to 9.7 miles south of the airport.

The proposal would establish a Class E extension to a Class E surface area at South Bend International Airport extending upward from the surface within 2 miles each side of the 179° bearing from the airport extending from the 5-mile radius of the airport to 9.7 miles south of the airport.

For the South Bend International Airport Class E airspace extending upward from 700 ft. above the surface, the proposal would: (1) decrease the radius from 8 miles to 7.5 miles; (2) amend the east extension to within 4 miles (decreased from 4.4 miles) south and 8 miles (increased from 7 miles) north of the 089° bearing from the South Bend INTL: RWY 27L-LOC (previously South Bend ILS Localizer East Course) extending from the 7.5-mile radius of the airport (previously South Bend Regional Airport) to 10 miles (decreased from 10.5 miles) east of the airport (previously Misha outer marker); (3) add an extension within 2 miles each side of the 179° bearing from the airport extending from the 7.5-mile radius to 10.7 miles south of the airport; (4) remove the Gipper VORTAC and associated extensions as they are no longer required; (5) update the name of the localizer from South Bend ILS Localizer to South Bend INTL: RWY 27L-LOC to coincide with the FAA's aeronautical database; and (6) remove the Misha Outer Marker from the airspace legal description header as it is no longer required.

And for the Jerry Tyler Memorial Airport, Niles, MI, Class E airspace extending upward from 700 ft. above the surface, contained in the South Bend, IN, airspace legal description, the proposal would: (1) increase the radius from 6.4 miles to 6.9 miles; and (2) remove the city associated with the airport in the airspace legal description header to comply with changes to FAA Order JO 7400.2R.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1G, “FAA National Environmental Policy Act Implementing Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

6002 Class E Airspace Areas Designated as Surface Areas.

* * * * *

AGL IN E2 South Bend, IN [Amended]

South Bend International Airport, IN

(Lat 41°42′30″ N, long 086°19′02″ W)

Chain-O-Lakes Airport, IN

(Lat 41°39′45″ N, long 086°21′15″ W)

Within a 5-mile radius of the South Bend International Airport, excluding that airspace within a 1-mile radius of the Chain-O-Lakes Airport and excluding that airspace 1 mile either side of the 214° bearing from the Chain-O-Lakes Airport to the 5-mile radius of the South Bend International Airport. This Class E airspace area is effective during the specific dates and times established in advance by a Notice to Airmen. The effective dates and times will thereafter be continuously published in the Chart Supplement.

* * * * *

6003 Class E Airspace Areas Designated as an Extension.

* * * * *

AGL IN E3 South Bend, IN [Establish]

South Bend International Airport, IN

(Lat 41°42′30″ N, long 086°19′02″ W)

That airspace extending upward from the surface within 2 miles each side of the 179° bearing from the airport extending from the 5-mile radius of the airport to 9.7 miles south of the airport. This Class E airspace area is effective during the specific dates and times established in advance by a Notice to Airmen. The effective dates and times will thereafter be continuously published in the Chart Supplement.

* * * * *

6004 Class E Airspace Areas Designated as an Extension to a Class D or Class E Surface Area.

* * * * *

AGL IN E4 South Bend, IN [Establish]

South Bend International Airport, IN

(Lat 41°42′30″ N, long 086°19′02″ W)

That airspace extending upward from the surface within 2 miles each side of the 179° bearing from the airport extending from the 5-mile radius of the airport to 9.7 miles south of the airport. This Class E airspace area is effective during the specific dates and times established in advance by a Notice to Airmen. The effective dates and times will thereafter be continuously published in the Chart Supplement.

* * * * *

Paragraph 6005 Class E Airspace Areas Extending Upward From 700 Feet or More Above the Surface of the Earth.

* * * * *

AGL IN E5 South Bend, IN [Amended]

South Bend International Airport, IN

(Lat 41°42′30″ N, long 086°19′02″ W)

South Bend INTL: RWY 27L-LOC

(Lat 41°42′15″ N, long 086°19′59″ W)

Jerry Tyler Memorial Airport, IN

(Lat 41°50′09″ N, long 086°13′31″ W)

That airspace extending upward from 700 feet above the surface within a 7.5-mile radius of South Bend International Airport; and within 4 miles south and 8 miles north of the South Bend INTL: RWY 27L-LOC extending from 7.5-mile radius of the South Bend International Airport to 10.5 miles east of the South Bend International Airport; and within 2 miles each side of the 179° bearing from the South Bend International Airport extending from the 7.5-mile radius of the South Bend International Airport to 10.7 miles south of the South Bend International Airport; and within a 6.9-mile radius of Jerry Tyler Memorial Airport.

* * * * *

Issued in Fort Worth, Texas, on December 2, 2025.
Jerry J. Creecy,
Acting Manager, Operations Support Group, ATO Central Service Center.

[FR Doc. 2025-21912 Filed 12-3-25; 8:45 am]

BILLING CODE 4910-13-P